LEGAL SERVICES CORPORATION

Sunshine Act Meeting of the Board of Directors

Time and Date: The Board of Directors of the Legal Services Corporation will meet on May 19, 2003 via conference call. The meeting will begin at 1 p.m. and continue until conclusion of the Board's agenda.

Location: 750 First Street, NE, 11th Floor, Washington, DC 20002, in Room 11026.

Status of Meeting: Open.

Matters to be Considered: 1. Approval of the agenda.

2. Consider and act on Board of Directors' Semi-Annual Report to Congress for the period of October 1, 2002-March 31, 2003.

3. Consider and act on whether to dissolve or reconstitute the working group established on April 26, 2003 to study and report back to the Board on how to proceed with the selection of a new LSC President and Inspector General.

4. Consider and act on resolutions thanking former Board members for their service.

5. Consider and act on other business.

6. Public comment.

For More Information Contact: Victor M. Fortuno, Vice President for Legal Affairs, General Counsel & Corporate Secretary, at (202) 336-8800.

Special Needs: Upon request, meeting notices will be made available in alternate formats to accommodate visual and hearing impairments. Individuals who have a disability and need an accommodation to attend the meeting may notify Elizabeth Cushing, at (202) 336-8800.

Dated: May 12, 2003.
Victor M. Fortuno,
Vice President for Legal Affairs, General Counsel and Corporate Secretary.

[FR Doc. 03-12208 Filed 5-12-03; 3:23 pm]

BILLING CODE 7050-01-P